DEPARTMENT OF THE INTERIOR

Bureau of Land Management

[NV-952-09-1420-BJ, 14X1109]

Filing of Plats of Survey; Nevada

AGENCY: Bureau of Land Management.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, NV 89520, 775-861-6541.

SUPPLEMENTARY INFORMATION: 1. The Plat of Survey of the following described lands was officially filed at the Nevada State Office, Reno, Nevada, on July 31, 2008:

The plat, in eleven sheets, representing the dependent resurvey of a portion of the south boundary, a portion of the subdivisional lines, a portion of the Northern Line of the Sutro Tunnel Grant and portions of certain mineral surveys, and the subdivision of sections 20, 27 and 28, Township 17 North, Range 21 East, Mount Diablo Meridian, Nevada, under Group No. 736, was accepted July 29, 2008.

This survey was executed to meet certain administrative needs of the Bureau of Land Management.

2. The Plat of Survey of the following described lands was officially filed at the Nevada State Office, Reno, Nevada, on September 5, 2008.

The plat, in five sheets, representing the dependent resurvey of portions of the south, east and north boundaries, a portion of the subdivisional lines and a portion of the subdivision-of-section lines of section 5, the subdivision of sections 2, 3, 4, 11, 12 and 13, the further subdivision of section 5, and a metes-and-bounds survey in section 5, Township 14 North, Range 27 East, Mount Diablo Meridian, Nevada, under Group No. 837, was accepted September 3, 2008.

This survey was executed to meet certain administrative needs of the Bureau of Indian Affairs.

3. The Plat of Survey of the following described lands was officially filed at the Nevada State Office, Reno, Nevada, on September 26, 2008.

The plat representing the dependent resurvey of a portion of the Fifth Standard Parallel South, on the south boundary of Township 20 South, through a portion of Range 62 East; and the dependent resurvey of a portion of the subdivisional lines and a portion of the subdivision-of-section lines of section 2, the further subdivision of section 2, and metes-and-bounds surveys in section 2, Township 21 South, Range 62 East, Mount Diablo Meridian, Nevada, under Group No. 843, was accepted September 25, 2008.

This survey was executed to meet certain administrative needs of the Bureau of Land Management.

4. The Plat of Survey of the following described lands was officially filed at the Nevada State Office, Reno, Nevada, on September 30, 2008.

The plat, in seven sheets, representing the dependent resurvey of a portion of the Idaho-Nevada State Line, from mile post 104 to mile post 111, the south boundary, a portion of the east boundary, the west boundary, a portion of the subdivisional lines and the subdivision-of-section lines of certain sections, and the further subdivision of certain sections and a metes-and-bounds survey of lot 3 in section 26, Township 47 North, Range 52 East, Mount Diablo Meridian, Nevada, under Group No. 821, was accepted September 25, 2008.

This survey was executed to meet certain administrative needs of the Bureau of Indian Affairs.

5. The above-listed surveys are now the basic record for describing the lands for all authorized purposes. These surveys have been placed in the open files in the BLM Nevada State Office and are available to the public as a matter of information. Copies of the surveys and related field notes may be furnished to the public upon payment of the appropriate fees.

Dated: October 14, 2008.
David D. Morlan,
Chief Cadastral Surveyor, Nevada.

[FR Doc. E8-25224 Filed 10-22-08; 8:45 am]

BILLING CODE 4310-HC-P